DEPARTMENT OF COMMERCE

Foreign-Trade Zones Board

[B-50-2021]

Foreign-Trade Zone (FTZ) 265—Conroe, Texas; Authorization of Production Activity; LUC Urethanes, Inc. (Wheels, Rollers and Friction Pads for Industrial Machinery and Material Conveyance), Conroe, Texas

On June 17, 2021, the City of Conroe, Texas, grantee of FTZ 265, submitted a notification of proposed production activity to the FTZ Board on behalf of LUC Urethanes, Inc., within FTZ 265, in Conroe, Texas.

The notification was processed in accordance with the regulations of the FTZ Board (15 CFR part 400), including notice in the Federal Register inviting public comment (86 FR 35472-35473, July 6, 2021). On October 15, 2021, the applicant was notified of the FTZ Board's decision that no further review of the activity is warranted at this time. The production activity described in the notification was authorized, subject to the FTZ Act and the FTZ Board's regulations, including Section 400.14.

Dated: October 15, 2021.
Andrew McGilvray,
Executive Secretary.

[FR Doc. 2021-22870 Filed 10-19-21; 8:45 am]

BILLING CODE 3510-DS-P